NATIONAL SCIENCE FOUNDATION

Special Emphasis Panel in Physics; Notice of Meeting

In accordance with the Federal Advisory Committee Act (Pub. L. 92-463, as amended), the National Science Foundation announces the following meeting.

Name: Special Emphasis Panel in Physics (1208).

Date/Time: July 20-21, 2000; 8:00AM-5:30PM.

Place: Room 1020, National Science Foundation, 4201 Wilson Blvd., Arlington, VA.

Type of Meeting: Closed.

Contact Person: Dr. Marvin Goldberg, Program Director for Elementary Particle Physics, Division of Physics, 4201 Wilson Blvd., Room 1015, Arlington, VA 22230. Telephone: (703) 306-1894.

Purpose of Meeting: To provide advice on major project costs of proposals submitted to NSF for financial support.

Agenda: To review and evaluate proposals as part of the evaluation process for funding.

Reason for Closing: The proposals being reviewed include information of a proprietary or confidential nature, including technical information; information on personnel and proprietary data for present and future subcontracts. These matters are exempt under 5 U.S.C. 552b(c), (4) and (6) of the Government in the Sunshine Act.

Reason for Late Notice: This notice was late due to scheduling and travel arrangements for panel members.

Dated: July 5, 2000.
Karen J. York,
Committee Management Officer.

[FR Doc. 00-17433 Filed 7-10-00; 8:45 am]

BILLING CODE 7555-01-M